DEPARTMENT OF COMMERCE

International Trade Administration

[A-570-851]

Certain Preserved Mushrooms From the People's Republic of China: Final Results of Antidumping Duty New Shipper Review; 2013-2014

AGENCY: Enforcement and Compliance, International Trade Administration, Department of Commerce.

DATES: Effective Date: June 8, 2015.

SUMMARY: The Department of Commerce (the Department) published the Preliminary Results of the 2013/2014 new shipper review on January 22, 2015.¹ This review covers one company, Dezhou Kaihang Agricultural Science Technology Co., Ltd. (Dezhou Kaihang). We gave interested parties an opportunity to comment on the Preliminary Results. Based upon our analysis of the comments received, we made changes to the margin calculations for these final results. As a result of these changes, we find that Dezhou Kaihang did not make sales of subject merchandise at less than normal value. The period of review (POR) is February 1, 2013 through February 28, 2014.²

¹ See Certain Preserved Mushrooms From the People's Republic of China: Preliminary Results of Antidumping Duty New Shipper Review; 2013/2014, 80 FR 3216 (January 22, 2015) (Preliminary Results).

² As noted in the Preliminary Results, the Department extended the review period for this new shipper review to capture the entry associated with the sale made by Dezhou Kaihang during the POR. See 19 CFR 351.214(f)(2)(ii).

FOR FURTHER INFORMATION CONTACT: Michael J. Heaney or Robert James, AD/CVD Operations, Office VI, Enforcement and Compliance, International Trade Administration, U.S. Department of Commerce, 14th Street and Constitution Avenue NW., Washington, DC 20230; telephone: (202) 482-4475 or (202) 482-0649, respectively.

SUPPLEMENTARY INFORMATION:

Background

The Department published the Preliminary Results on January 22, 2015.³ On March 13, 2015, the Department extended the deadline for issuing the final results by 60 days.⁴ On February 23, 2015, Dezhou Kaihang submitted its case brief.⁵ On March 19, 2015, petitioner Monterey Mushrooms submitted a rebuttal brief.⁶

³ See Preliminary Results.

⁴ See Memorandum dated March 13, 2015 from Michael J. Heaney to Christian Marsh Re: Certain Preserved Mushrooms from the People's Republic of China: Extension of Deadline for Final Results of Antidumping Duty New Shipper Review: 2013-2014.

⁵ See February 23, 2015 letter from Dezhou Kaihang to Secretary of Commerce Re: Certain Preserved Mushrooms from the People's Republic of China; Submission of Case Brief.

⁶ See March 19, 2015 letter from Monterey Mushrooms to Secretary of Commerce from Monterey Mushrooms.

Scope of the Order

The products covered by this antidumping order are certain preserved mushrooms, whether imported whole, sliced, diced, or as stems and pieces. The merchandise subject to this order is classifiable under subheadings: 2003.10.0127, 2003.10.0131, 2003.10.0137, 2003.10.0143, 2003.10.0147, 2003.10.0153, and 0711.51.0000 of the Harmonized Tariff Schedule of the United States (HTSUS). Although the HTSUS subheadings are provided for convenience and customs purposes, the written description of the scope of this order is dispositive.⁷

⁷ For a complete description of the scope of the order, see “Certain Preserved Mushrooms from the People's Republic of China: Issues and Decision Memorandum for the Final Results in the 2013/2014 New Shipper Review” dated June 1, 2015 (Issues and Decision Memorandum).

Analysis of Comments Received

All issues raised in the case and rebuttal briefs by parties in this review are addressed in the Issues and Decision Memorandum. A list of the issues which parties raised is attached to this notice as an appendix. The Issues and Decision Memorandum is a public document and is on file in the Central Records Unit (CRU), Room 7046 of the main Department of Commerce building, as well as electronically via Enforcement and Compliance's Antidumping and Countervailing Duty Centralized Electronic Service System (ACCESS). ACCESS is available to registered users at https://access.trade.gov and in the CRU. In addition, a complete version of the Issues and Decision Memorandum can be accessed directly on the internet at http://enforcement.trade.gov/frn/index.html. The signed Issues and Decision Memorandum and electronic versions of the Issues and Decision Memorandum are identical in content.

Changes Since the Preliminary Results

Based on our review of the comments received from interested parties regarding our Preliminary Results, and for the reasons explained in the Issues and Decision Memorandum, we have revised the margin calculation for Dezhou Kaihang. The analysis memorandum for Dezhou Kaihang contains further explanation of the margin calculations utilized in the final results.⁸

⁸ See Memorandum to the File from Michael J. Heaney “Analysis of Data Submitted by Dezhou Kaihang Agricultural Science Technology Co., Ltd (Dezhou Kaihang) in the Final Results of New Shipper Review of the Antidumping Duty Order on Certain Preserved Mushrooms from the People's Republic of China (PRC)” dated June 1, 2015 (Dezhou Kaihang Final Analysis Memorandum).

Final Results of Review

The weighted average dumping margin for the final results of this review for the period February 1, 2013 through February 28, 2014 and for the following exporter/producer combination is as follows:

Exporter | Producer | Weighted- average dumping margin (percent)
Dezhou Kaihang Agricultural Science Technology Co., Ltd | Shandong Fengyu Edible Fungus Co., Ltd | 0.00

Disclosure

The Department intends to disclose calculations performed for these final results to the parties within five days of the date of publication of this notice, in accordance with 19 CFR 351.224(b).

Assessment Rates

Pursuant to section 751(a)(2)(C) of the Tariff Act of 1930 as amended (the Act) and 19 CFR 351.212(b), the Department will determine, and CBP shall assess, antidumping duties on all appropriate entries of subject merchandise covered by this review. The Department intends to issue assessment instructions to CBP 15 days after the date of publication of these final results of review.

For assessment purposes, because Dezhou Kaihang's margin is zero, we will instruct CBP to liquidate the entry covered in this new shipper review without regard to antidumping duties.

On October 24, 2011, the Department announced a refinement to its assessment practice in non-market economy cases. ⁹ Pursuant to this refinement in practice, for entries that were not reported in the U.S. sales databases submitted by Dezhou Kaihang during this review, the Department will instruct CBP to liquidate at the PRC-wide rate.

⁹ See Non-Market Economy Antidumping Proceedings: Assessment of Antidumping Duties, 76 FR 65694 (October 24, 2011).

Cash Deposit Requirements

The following cash deposit requirements will be effective upon publication of the final results of this new shipper review for shipments of the subject merchandise from the PRC entered, or withdrawn from warehouse, for consumption on or after the publication date, as provided by section 751(a)(2)(C) of the Act: (1) For subject merchandise produced by Shandong Fengyu Edible Fungus Co., Ltd. and exported by Dezhou Kaihang, no cash deposit rate will be required since the rate established in the Final Results of Review section of this notice is zero; (2) for subject merchandise exported by Dezhou Kaihang but not produced by Shandong Fengyu Edible Fungus Co., Ltd., the cash deposit rate will be that for the PRC-wide entity (i.e., 308.33 percent); and (3) for subject merchandise produced by Shandong Fengyu Edible Fungus Co., Ltd. but not exported by Dezhou Kaihang, the cash deposit rate will be the rate applicable to that exporter. These cash deposit requirements, when imposed, shall remain in effect until further notice.

Notification to Importers

This notice serves as a final reminder to importers of their responsibility under 19 CFR 351.402(f)(2) to file a certificate regarding the reimbursement of antidumping duties prior to liquidation of the relevant entries during this POR. Failure to comply with this requirement could result in the Department's presumption that reimbursement of antidumping duties occurred and the subsequent assessment of double antidumping duties.

Notification Regarding Administrative Protective Order

This notice also serves as the only reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a sanctionable violation.

We are issuing and publishing these results and this notice in accordance with sections 751(a)(2)(B) and 777(i) of the Act.

Dated: June 1, 2015.
Ronald K. Lorentzen,
Acting Assistant Secretary for Enforcement and Compliance.

List of Topics Discussed in the Accompanying Issues and Decision Memorandum

Summary

Background

Scope of the Order

Discussion Of Issues

Comment 1 Metal Cans

Comment 2 Coal

Comment 3 Labor Cost

Comment 4 Surrogate Financial Ratios

Recommendation

[FR Doc. 2015-13979 Filed 6-5-15; 8:45 am]

BILLING CODE 3510-DS-P